DEPARTMENT OF THE INTERIOR

Bureau of Indian Affairs

The Grand Canyon West Alcohol Ordinance for the Hualapai Indian Tribe

AGENCY: Bureau of Indian Affairs, Interior.

ACTION: Notice.

SUMMARY: This notice publishes the Grand Canyon West Alcohol Ordinance of the Hualapai Indian Tribe of Arizona (Tribe). The Ordinance regulates and controls the possession, sale and consumption of liquor within the Hualapai Reservation. This Ordinance allows for possession and sale of alcoholic beverages within the Hualapai Reservation, and increases the ability of the tribal government to control the Tribe's liquor distribution and possession. At the same time it will provide an important source of revenue for the continued operation and strengthening of the tribal government and the delivery of tribal services.

DATES: Effective Date: This Ordinance is effective on September 10, 2008.

FOR FURTHER INFORMATION CONTACT: Sharlot Johnson, Tribal Government Services Officer, Western Regional Office, P.O. Box 10, Phoenix, Arizona 85001, Telephone (602) 379-6786; Fax (602) 379-4100; or Elizabeth Colliflower, Office of Tribal Services, 1849 C Street NW., MS 4513-MIB, Washington, DC 20240; Telephone: (202) 513-7640.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Hualapai Tribal Council of the Hualapai Indian Tribe (Tribe) adopted its Liquor Ordinance by Resolution No. 38-2006 on May 25, 2006. This is an amendment to prior Liquor Ordinances passed by the Tribe. The purpose of this Ordinance is to govern the sale, possession and distribution of alcohol within tribal lands of the Tribe.

This notice is published in accordance with the authority delegated by the Secretary of the Interior to the Principal Deputy Assistant Secretary—Indian Affairs. I certify that this Liquor Ordinance of the Hualapai Indian Tribe was duly adopted by the Hualapai Tribal Council on May 25, 2006.

Dated: August 29, 2008.
George T. Skibine,
Acting Deputy Assistant Secretary for Policy and Economic Development.

The Hualapai Indian Tribe's Grand Canyon West Alcohol Ordinance reads as follows:

Hualapai Tribal Code

Grand Canyon West Alcohol Ordinance

Chapter 23, Section 23.2 Grand Canyon West Alcohol Ordinance.

(a) General Provisions.

(1) Title. This section shall be known as the Grand Canyon West Alcoholic Beverage Control Ordinance.

(2) Authority. This section is enacted pursuant to the Act of August 15, 1953 (Pub. L. 83-277, 67 Stat. 588, 18 U.S.C. Section 1161), as interpreted by the United States Supreme Court in Rice v. Rehner, 463 U.S. 713 (1983), and Article V of the Hualapai Tribe Constitution.

(3) Purpose. The purpose of this section is to allow for, regulate, and control the sale, purchase, distribution, possession, and consumption of alcoholic beverages within certain portions of the Hualapai reservation. Enactment of this section as an ordinance governing liquor possession and sale on the reservation will increase the ability of the Tribal government to control and regulate Reservation alcohol possession and consumption, and at the same time provide an important source of revenue for the continued operation and strengthening of the Tribe and the delivery of Tribal government services.

(4) Scope and Territory. This section applies to all sales, purchases, distributions, possession, and consumption of alcoholic beverages made within the exterior boundaries of the Hualapai reservation and within a 5 mile radius of the Grand Canyon West Airport Terminal. This territory is commonly referred to as Grand Canyon West, Liquor Ordinance No. 23, approved by the Tribal Council on December 7, 1968, is not applicable to the territory covered by this Ordinance. Signs describing this Ordinance will be posted at each site where Alcohol will be sold and consumed.

(5) Application of 18 U.S.C. Section 1161. All acts and transactions under this section shall be in conformity with this section and in conformity with the laws of the State of Arizona regarding alcohol to the extent required by Section 1161.

(6) Effective date. This section shall take effect on the date it is approved by the Secretary of the Interior or the Secretary's designate.

(b) Definitions.

In this section, unless the context otherwise requires:

“Alcohol” and “Alcoholic Beverage” means beer, wine, or any other spirituous liquor, including alcohol, brandy, whiskey, rum, tequila, mescal, gin, porter, ale, vodka, any malt liquor or malt beverage, absinthe, a compound or mixture of any of them or of any of them with any vegetable or other substance, alcohol bitters, bitters containing alcohol, any liquid mixture or preparation, fruits preserved in ardent spirits, whether patented or otherwise, that produces intoxication.

“Beer” means any beverage, obtained by the alcoholic fermentation, infusion or decoction of barley malt, hops, or other ingredients not drinkable, or any combination of them.

“Grand Canyon West” means the real property that is within the exterior boundaries of the Hualapai reservation and is within a 5-mile radius of the Grand Canyon West Airport terminal. This real property is commonly referred to as Grand Canyon West. Grand Canyon West is by this Ordinance excluded from the territory covered by Liquor Ordinance No. 23, approved by the Tribal Council on December 7, 1968.

“Indian” means a person who is either enrolled in a federally recognized Indian tribe, or who possesses one-fourth (1/4) or more degree Indian blood in a federally recognized tribe(s) and is identified in the community as being Indian.

“Reservation” means all Indian Lands under the control and authority of the Hualapai Tribe.

“Sale of Alcohol for On-Site Consumption” means the sale of alcoholic beverages to be consumed only on the seller's premises and does not include package liquor.

“Sell,” “Sold,” “Buy” means and shall include furnish, dispose of, give, receive or acquire.

“State” means the State of Arizona.

“Tribe” or “Hualapai Tribe” means the Hualapai Indian Tribe of the Hualapai Indian Reservation, a federally recognized Indian Tribe.

“Wine” includes champagne and similar sparkling wine beverages and means the product obtained by the fermentation of grapes or other agricultural products containing natural or added sugar or any such alcoholic beverage fortified with grape brandy.

(c) Unlawful Acts. Unless specifically provided for in subsection (d) below, this section does not invalidate or alter the limitations on the use, sale, purchase, possession, or consumption of alcohol set forth in Sections 6.276, 6.277, 6.278, 6.279 or elsewhere in the Hualapai Tribal Code nor shall any provision of this section be read to invalidate the application of the laws of the State of Arizona regarding the use, sale, purchase, possession, or consumption of alcohol.

(d) Limited Sale and Consumption of Alcohol within Grand Canyon West Permitted. Notwithstanding limitations on the use, sale, purchase, possession, or consumption of alcohol set forth elsewhere in the Hualapai Tribal Code, the limited sale and consumption of alcohol within the entire area of Grand Canyon West is allowed, consistent with the following provisions:

(1) Only entities licensed pursuant to subsection (e) of this Ordinance may sell and/or serve alcohol within Grand Canyon West. This includes entities selling or serving alcohol at special events.

(2) No package liquor may be sold and/or served. Only the sale and/or service of alcohol for on-site consumption is authorized.

(3) Alcohol purchased within Grand Canyon West may only be consumed within the premises of the establishment at which it was purchased.

(4) The Hualapai Tribal Council, in its discretion, may further limit the extent to which alcohol may be sold, served, purchased, distributed, possessed, and consumed within Grand Canyon West, and may do so by resolution. Accordingly, the Hualapai Tribal Council may, by resolution:

(A) further limit the areas within Grand Canyon West in which alcohol may be sold and/or served;

(B) further limit the types of businesses within Grand Canyon West that may sell and/or serve alcohol;

(C) further limit the types of alcohol (liquor, beer, wine, etc.) sold and/or served within any portion or portions of Grand Canyon West or by any entity or groups of entities within Grand Canyon West;

(D) further limit the manner in which alcohol is sold and/or served within any portion or portions of Grand Canyon West or by any entity or groups of entities within Grand Canyon West;

(E) limit the hours in which alcohol may be sold and/or served within any portion or portions of Grand Canyon West or by any entity or groups of entities within Grand Canyon West;

(F) notwithstanding the license suspension and revocation procedures below, place a partial or full emergency moratorium on alcohol sales and/or service within any portion or portions of Grand Canyon West or by any entity or groups of entities within Grand Canyon West when such moratorium is in the best interests of the Tribe; and/or

(G) provide any other limitations on the sale and/or service of alcohol within Grand Canyon West allowed by law.

(e) Licenses.

(1) Licenses for the sale of alcohol beverages may be issued to entertainment, recreation, and tourism facilities, gaming facilities, bars, restaurant-bar operations, and entities selling or serving alcohol at special indoor or outdoor events.

(2) Any restaurant-bar operation must produce more than the specified percentage set forth in their license of its gross sales from food service in order to be licensed after the first year of operation.

(3) Licenses shall be issued by the Hualapai Tribal Council, upon the receipt by the Hualapai Tribal Council of a proper application containing the following information:

(A) The name of the entity that regulates the business at which the sale of alcohol will take place. Such entity shall be the license applicant.

(B) A copy of the organizational documents under which the applicant entity is organized.

(C) A description of the land or building regulated by the applicant entity at which the applicant entity wishes to sell alcohol beverages.

(D) A statement that the applicant entity will conform to all requirements of applicable Tribal, State, and federal law, as they relate to the purchase and sale of alcohol beverages.

(4) Upon receipt of a proper application under this Ordinance, licenses for the sale of alcohol beverages may be issued by the Hualapai Tribal Council if the Hualapai Tribal Council finds, in its sole discretion, on the basis of the facts disclosed by the application and by such additional information as the Hualapai Tribal Council may deem relevant, that such issuance is in the interest of the Tribe.

(5) Licenses for the sale of alcohol beverages issued by the Hualapai Tribal Council shall contain the following requirements:

(A) Each license shall require its holder to conform its operations to the laws of the Tribe, the State of Arizona and the United States of America as they relate to the purchase and sale of alcohol beverages.

(B) No license shall be effective for a term of more than one year from the date of its issuance, and each renewal thereof.

(C) Each license shall explicitly state that its continued validity is dependent upon the compliance of its holder with all the provisions of this Ordinance and other applicable law.

(D) No licensee may give away or sell alcohol beverages at a loss.

(6) The Hualapai Tribal Council shall have the authority to suspend or revoke any license issued under this Ordinance, under the following procedures:

(A) Upon receiving information suggesting that the holder of a license under this Ordinance may have violated the terms of the license or applicable law, the Hualapai Tribal Council shall give the license holder written notice that the Hualapai Tribal Council intends to suspend or revoke the holder's license. Such notice shall be sent by certified mail, return receipt requested, to the agent of the license holder and shall specify the grounds for the proposed suspension or revocation.

(B) Any license holder who receives a notice of a proposed suspension or revocation may request a hearing by the Hualapai Tribal Council, by sending a written request, certified mail, return receipt requested, to the Chairman of the Hualapai Tribe, at the Tribal Chairman's administrative offices, within seven (7) days of the license holder's receipt of the notice.

(C) Upon receipt of a request for a hearing under this Ordinance, the Hualapai Tribal Council shall set a date for a hearing, which shall be not later than thirty days from the date of the receipt of the hearing request.

(D) At a hearing held under this Ordinance, the holder of a license under this Ordinance shall be permitted to present evidence with respect to the holder's compliance with the terms of its license and applicable law. In reaching its decision, the Hualapai Tribal Council may consider such evidence, together with all other evidence it deems relevant. Following a hearing, if in the judgment of the Hualapai Tribal Council the license holder has not complied with the terms of its license and applicable law, the Hualapai Tribal Council shall suspend or revoke its license; and if in the judgment of the Hualapai Tribal Council the terms of the license and applicable law have been complied with, the proceedings shall be dismissed. In either case, the decision of the Hualapai Tribal Council shall be final.

(7) The Hualapai Tribal Council may reject any application for a license, or for a renewal of a license, under this Ordinance, if the applicant previously has committed acts which have resulted in the suspension or revocation of a license under this Ordinance.

(8) Any entity licensed under this Ordinance shall appoint a statutory agent and notify the Hualapai Tribal Council of such appointment.

(9) The Hualapai Tribal Council, or any individual member thereof or any person acting with prior written authorization of the Hualapai Tribal Council may enter any premises licensed under this ordinance at any time to observe the activities taking place.

(10) Each entity licensed under this Ordinance shall be required to file a separate application and hold a separate license for each facility it operates.

(11) No license issued under this Ordinance may be transferred to any other entity or person.

(f) Violation of Section. The procedures governing the adjudication of infractions under this Ordinance shall be those set forth in the rules of the Tribal Court.

(1) Criminal Penalties.

A. Application to Indians. Any Indian who

(i) uses or purchases alcohol from an unlicensed entity or person,

(ii) possesses or consumes alcohol in any location other than within a facility licensed in accordance with this ordinance, or

(iii) sells, serves or distributes alcohol without a license or in violation of the terms and conditions of their license, shall be subject to the criminal penalties set forth in the Hualapai Tribal Code, including, but not limited to, Sections 6.276, 6.277, 6.278, 6.279 of the Hualapai Tribal Code.

B. Application to Non-Indians. Tribal Officials may notify federal, State, or county officials of any activity conducted by non-Indians within Grand Canyon West that violates federal, State, or county law. Nothing in this section shall be construed to authorize or require the criminal trial and punishment of non-Indians within the Tribal court system.

(2) Civil Fines.

A. Any customer of a licensed entity, whether Indian or non-Indian, who possesses or consumes alcohol beyond the premises of such entity or any person, whether Indian or non-Indian, who purchases alcohol, wine or beer from an unlicensed entity or person shall be subject to a civil fine not to exceed $1,000.00, plus costs, for each separate violation.

B. A Tribal employee, vendor, vendor employee, or contractor, whether Indian or non-Indian, who sells, serves, or distributes or possesses alcohol without a valid license, who fails to abide by the terms and conditions of their license or who violates any licensing requirement shall be subject to a civil fine not to exceed $4,000.00, plus costs, for each separate violation.

(3) Tribal Court.

Imposition of all criminal penalties against Indians under this section, and all civil fines against Indians and non-Indians under this section, shall be under the exclusive jurisdiction of the Tribal Court. The Tribal Court may impose a penalty or fine under this section upon a complaint or petition filed by the Tribe, represented by the Tribal prosecutor or another Hualapai Tribal Council designee. The complaint or petition must set forth specific allegations amounting to a violation of this section. Notice and hearing on such complaint or petition, as well as appellate procedures, shall be provided in accordance with the rules of the Tribal Court.

(4) Exclusion From Reservation.

In addition to other sanctions contained in this section, Tribal law enforcement officers shall be authorized to exclude persons who violate this section from the Reservation consistent with the Hualapai Tribal Code and Constitution.

(5) Tribal Police.

The Tribal law enforcement officials may enforce all violations of Tribal (including this section), State, and/or federal laws to the maximum extent allowed under Tribal, State, and federal law.

(g) Saving and Severability. In the event any section or provision of this section or its application to any particular activity is held to be invalid, the remaining sections and provisions of this section and the remaining applications of such sections and provisions shall continue in full force and effect.

(h) No Waiver of Sovereign Immunity. Nothing in this section shall serve to waive the Hualapai Tribe's sovereign immunity, which is hereby expressly affirmed.

(i) Amendments. This section may be amended by official action of the Hualapai Tribal Council.

(j) Repeal of Prior Laws. Except as provided in subsection (c) above, this section, upon becoming effective, shall operate to revise any inconsistent portion of the Hualapai Tribal Code.

[FR Doc. E8-20953 Filed 9-9-08; 8:45 am]

BILLING CODE 4310-4J-P